DEPARTMENT OF ENERGY

National Petroleum Council; Meeting

AGENCY: Department of Energy, Office of Fossil Energy

ACTION: Notice of open meeting

.

SUMMARY: This notice announces a meeting of the National Petroleum Council. The Federal Advisory Committee Act (Public Law 92-463, 86 Stat. 770) requires that public notice of this meeting be announced in the Federal Register.

DATES: Thursday, December 18, 2014, 9:00 a.m. to 11:30 a.m.

ADDRESSES: St. Regis Hotel, 923 16th and K Streets NW., Washington, DC 20006.

FOR FURTHER INFORMATION CONTACT: Nancy Johnson, U.S. Department of Energy, Office of Oil and Natural Gas (FE-30), Washington, DC 20585; telephone (202) 586-5600 or facsimile (202) 586-6221.

SUPPLEMENTARY INFORMATION:

Purpose of the Committee: To provide advice, information, and recommendations to the Secretary of Energy on matters relating to oil and natural gas, or the oil and natural gas industries.

Tentative Agenda:

• Call to Order and Introductory Remarks.

• Consideration of the Proposed Final Report of the NPC Committee on Emergency Preparedness.

• Progress Report of the NPC Committee on Arctic Research.

• Remarks by the Honorable Ernest Moniz, Secretary of Energy

• Administrative Matters.

• Discussion of Any Other Business Properly Brought Before the National Petroleum Council.

• Adjournment.

Public Participation: The meeting is open to the public. The Chair of the Council will conduct the meeting to facilitate the orderly conduct of business. Members of the public who wish to make oral statements pertaining to agenda items should contact Ms. Nancy Johnson at the address or telephone number listed above. Request for oral statements must be received at least three days prior to the meeting. Those not able to attend the meeting or having insufficient time to address the Council are invited to send a written statement to info@npc.org. Any member of the public who wishes to file a written statement to the Council will be permitted to do so, either before or after the meeting.

Additionally, the meeting will also be available via live video webcast. The link will be available at http://www.npc.org.

Transcripts: Transcripts of the meeting will be available by contacting Ms. Johnson at the address above, or info@npc.org.

Issued at Washington, DC, on November 25, 2014.
LaTanya R. Butler,
Deputy Committee Management Officer.

[FR Doc. 2014-28368 Filed 12-1-14; 8:45 am]

BILLING CODE 6450-01-P